DEPARTMENT OF DEFENSE

Department of the Air Force

Office of the Secretary of the Air Force Acceptance of Group Application Under Public Law 95-202 and Department of Defense Directive (DODD) 1000.20

AGENCY: The United States Air Force, DOD.

ACTION: Notice.

SUMMARY: Under the provisions of Section 401, Public Law 95-202 and DoD Directive 1000.20, the Department of Defense Civilian/Military Service Review Board has accepted an application on behalf of a group known as: “Lycoming AVCO Vietnam Tech Reps.” Persons with information or documentation pertinent to the determination of whether the service of this group should be considered active military service to the Armed Forces of the United States are encouraged to submit such information or documentation within 60 days to the DoD Civilian/Military Service Review Board (DoD C/MSRB), 1500 West Perimeter Road, Suite 3700 Joint Base Andrews NAF, MD 20762-7002.

FOR FURTHER INFORMATION CONTACT: Mr. Bruce T. Brown, Executive Secretary, DoD C/MSRB, at 240-612-5364, bruce.brown@afncr.af.mil. Copies of documents or other materials submitted cannot be returned.

Henry Williams, Jr.,
Acting Air Force Federal Register Liaison Officer.

[FR Doc. 2012-25946 Filed 10-19-12; 8:45 am]

BILLING CODE 5001-10-P